DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Highly Migratory Species Vessel Logbooks and Cost-Earnings Data Reports.

Form Number(s): Form NOAA 88-191.

OMB Approval Number: 0648-0371.

Type of Request: Regular submission.

Burden Hours: 30,611.

Number of Respondents: 7,741.

Average Hours Per Response: 5 hours.

Needs and Uses: The National Marine Fisheries Service (NMFS) seeks to renew an existing logbook information and cost-earnings data collection from fishermen who possess permits to fish for highly migratory species. The revision would: (1) Increase the number of respondents based on recent information; (2) revise the proportion of shark and swordfish permit holders based on recent information; and (3) increase the burden estimate associated with the cost-earnings and logbook forms. The information collected in logbooks and the cost-earnings form will help NMFS identify impacts of proposed regulatory measures on fishermen and the resource, consistent with applicable laws such as the Magnuson-Stevens Fishery Conservation and Management Act and the Regulatory Flexibility Act.

Affected Public: Individuals or households; business or other for-profit organizations.

Frequency: Annually and per fishing trip.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 9, 2005.
Gwellnar Banks,
Management Analyst, Office of the Chief Information Officer.

[FR Doc. 05-11825 Filed 6-14-05; 8:45 am]

BILLING CODE 3510-22-P